DEPARTMENT OF ENERGY

Federal Energy Regulatory Commission

Combined Notice of Filings #1

Take notice that the Commission received the following electric corporate filings:

Docket Numbers: EC18-26-000.

Applicants: Deseret Generation & Transmission Co-operative, Inc.

Description: Application for Expedited Approval of Acquisition of Assets Pursuant to Section 203 of the Federal Power Act of Deseret Generation & Transmission Co-operative, Inc.

Filed Date: 11/28/17.

Accession Number: 20171128-5165.

Comments Due: 5 p.m. ET 12/19/17.

Take notice that the Commission received the following electric rate filings:

Docket Numbers: ER17-2541-001.

Applicants: Estill Solar I, LLC.

Description: Notice of Non-Material Change in Status of Estill Solar I, LLC.

Filed Date: 11/28/17.

Accession Number: 20171128-5151.

Comments Due: 5 p.m. ET 12/19/17.

Docket Numbers: ER18-15-001.

Applicants: Westwood Generation, LLC.

Description: Compliance filing: Response to FERC Deficiency Notice to be effective N/A.

Filed Date: 11/28/17.

Accession Number: 20171128-5143.

Comments Due: 5 p.m. ET 12/19/17.

Docket Numbers: ER18-158-001.

Applicants: EnPowered.

Description: Tariff Amendment: EnPowered USA, Inc. Market Based Rate Tariff to be effective 10/31/2017.

Filed Date: 11/29/17.

Accession Number: 20171129-5097.

Comments Due: 5 p.m. ET 12/20/17.

Docket Numbers: ER18-336-000.

Applicants: Midcontinent Independent System Operator, Inc.

Description: § 205(d) Rate Filing: 2017-11-28_4th Quarter Tariff Clean-Up Filing to be effective 11/29/2017.

Filed Date: 11/28/17.

Accession Number: 20171128-5113.

Comments Due: 5 p.m. ET 12/19/17.

Docket Numbers: ER18-337-000.

Applicants: PacifiCorp.

Description: § 205(d) Rate Filing: City of Hurricane Requirements Contract to be effective 12/1/2017.

Filed Date: 11/28/17.

Accession Number: 20171128-5114.

Comments Due: 5 p.m. ET 12/19/17.

Docket Numbers: ER18-339-000.

Applicants: Bishop Hill Interconnection LLC.

Description: Compliance filing: Bishop Hill Interconnection LLC Certificate of Concurrence to be effective 10/15/2017.

Filed Date: 11/28/17.

Accession Number: 20171128-5132.

Comments Due: 5 p.m. ET 12/19/17.

Docket Numbers: ER18-340-000.

Applicants: Midcontinent Independent System Operator, Inc.

Description: § 205(d) Rate Filing: 2017-11-29_SA 749 ATC-CWP IA Termination to be effective 11/30/2017.

Filed Date: 11/29/17.

Accession Number: 20171129-5027.

Comments Due: 5 p.m. ET 12/20/17.

Docket Numbers: ER18-341-000.

Applicants: PJM Interconnection, L.L.C.

Description: Tariff Cancellation: Notice of Cancellation of WMPA SA No. 4743; Queue No. AC1-046 to be effective 12/18/2017.

Filed Date: 11/29/17.

Accession Number: 20171129-5036.

Comments Due: 5 p.m. ET 12/20/17.

Docket Numbers: ER18-342-000.

Applicants: PJM Interconnection, L.L.C.

Description: Tariff Cancellation: Notice of Cancellation of WMPA SA No. 4744; Queue No. AC1-047 to be effective 12/18/2017.

Filed Date: 11/29/17.

Accession Number: 20171129-5037.

Comments Due: 5 p.m. ET 12/20/17.

Docket Numbers: ER18-343-000.

Applicants: Citigroup Energy Inc.

Description: § 205(d) Rate Filing: Revised MBR Tariff to be effective 11/30/2017.

Filed Date: 11/29/17.

Accession Number: 20171129-5056.

Comments Due: 5 p.m. ET 12/20/17.

Docket Numbers: ER18-344-000.

Applicants: C.P. Crane LLC.

Description: Request for Waiver of C.P. Crane LLC.

Filed Date: 11/29/17.

Accession Number: 20171129-5057.

Comments Due: 5 p.m. ET 12/20/17.

Docket Numbers: ER18-345-000.

Applicants: Citigroup Energy Canada ULC.

Description: § 205(d) Rate Filing: Revised MBR Tariff to be effective 11/30/2017.

Filed Date: 11/29/17.

Accession Number: 20171129-5058.

Comments Due: 5 p.m. ET 12/20/17.

Docket Numbers: ER18-346-000.

Applicants: New England Power Company.

Description: § 205(d) Rate Filing: Related Facilities Agreement with Granite Reliable Power, LLC to be effective 11/1/2017.

Filed Date: 11/29/17.

Accession Number: 20171129-5085.

Comments Due: 5 p.m. ET 12/20/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 29, 2017.
Nathaniel J. Davis, Sr.,
Deputy Secretary.

[FR Doc. 2017-26132 Filed 12-4-17; 8:45 am]

BILLING CODE 6717-01-P